ENVIRONMENTAL PROTECTION AGENCY

40 CFR Part 81

[EPA-R09-OAR-2014-0266; FRL-9916-55-Region 9]

Designation of Areas for Air Quality Planning Purposes; State of Arizona; Pinal County and Gila County; Pb; Correction

AGENCY: Environmental Protection Agency.

ACTION: Final rule; correction.

SUMMARY: The Environmental Protection Agency (EPA) is correcting a final rule that appeared in the Federal Register of September 3, 2014 (79 FR 52205). The rule redesignated the Hayden area, which encompasses portions of southern Gila and eastern Pinal counties, Arizona, from “unclassifiable” to “nonattainment” for the 2008 national ambient air quality standards (“NAAQS” or “standards”) for lead (Pb). We are making several corrections to the table entitled “Arizona—2008 Lead NAAQS.” In the Gila County portion of the boundary description, we are adding township T4S, R14E. Although most of this township lies in Pinal County and is listed in that portion of the table, a small area in the northeast corner of T4S, R14E lies within Gila County. Also in the Gila County portion of the boundary description, we are removing the phrase, “except those portions in the San Carlos Indian Reservation” because there are no tribal lands within the Gila County portions of T4S, R16E and T5S, R16E. Finally, in the Pinal County portion of the boundary description, we are adding T4S, R15E. This township, which was part of the area that was initially designated as unclassifiable for the 2008 Pb NAAQS, was inadvertently omitted from the boundary description when the area was redesignated to nonattainment.

DATES: This rule is effective on October 3, 2014.

FOR FURTHER INFORMATION CONTACT: Ginger Vagenas, Air Planning Office (AIR-2), U.S. Environmental Protection Agency, Region IX, (415) 972-3964, vagenas.ginger@epa.gov.

SUPPLEMENTARY INFORMATION: In FR Doc. 2014-20920 appearing on page 52205 in the Federal Register of Wednesday, September 3, 2014, the following correction is made:

§ 81.303 [Corrected]

1. On page 52209, in § 81.303, the table entitled “Arizona—2008 Lead NAAQS” is corrected to read as follows:

Arizona—2008 Lead NAAQS
Designated area | Designation for the 2008 NAAQS ᵃ: Date ¹ | Designation for the 2008 NAAQS ᵃ: Type
Hayden, AZ:
Gila County (part) The portions of Gila County that are bounded by T4S, R14E; T4S, R15E; T4S, R16E; T5S, R15E; T5S, R16E | 10-3-14 | Nonattainment.
Pinal County (part) The portions of Pinal County that are bounded by: T4S, R14E; T4S, R15E; T4S, R16E (except those portions in the San Carlos Indian Reservation);T5S, R14E; T5S, R15E; T5S, R16E (except those portions in the San Carlos Indian Reservation); T6S, R14E; T6S, R15E; T6S, R16E (except those portions in the San Carlos Indian Reservation) | 10-3-14 | Nonattainment.
| * * * * * * *
ᵃ Includes Indian Country located in each county or area, except as otherwise specified.
¹ December 31, 2011 unless otherwise noted.

Dated: September 15, 2014.
Alexis Strauss,
Acting Regional Administrator, Region 9.

[FR Doc. 2014-22738 Filed 9-23-14; 8:45 am]

BILLING CODE 6560-50-P